DEPARTMENT OF LABOR

Occupational Safety and Health Administration (OSHA), Labor.

Agency Information Collection Activities: Announcement of Office of Management and Budget (OMB) Control Numbers Under the Paperwork Reduction Act

AGENCY: Occupational Safety and Health Administration (OSHA), Labor.

ACTION: Announcement of OMB approval of information collection requirements.

SUMMARY: The Occupational Safety and Health Administration (OSHA) announces that the Office of Management and Budget (OMB) has extended its approval for a number of information collection requirements found in certain sections of 29 CFR parts 1910, 1915, and 1926. OSHA sought approval under the paperwork Reduction Act of 1995 (PRA-95), and, as required by that Act, is announcing the approval numbers and expiration dates for those requirements.

Effective DATE: These amendments are effective May 23, 2003.

FOR FURTHER INFORMATION CONTACT: Todd Owen or Theda Kenney, Directorate of Standards and Guidance, Occupational Safety and Health Administration, U.S. Department of Labor, Room N-3609, 200 Constitution Avenue, NW., Washington, DC 20210, telephone (202) 693-2222.

SUPPLEMENTARY INFORMATION: In a series of Federal Register notices, the Agency announced its requests to OMB to renew its current extensions of approvals for various information collection (paperwork) requirements in its safety and health standards for General Industry, Shipyard Employment, and Construction. In these Federal Register announcements, the Agency provided 60-day comment periods for the public to respond to OSHA's burden hour and cost estimates.

In accordance with PRA-95 (44 U.S.C. 3501-3520), OMB renewed its approval for these information collection requirements and assigned OMB control numbers to these requirements. The table below provides the following information for each of these OMB-approved requirements: The title of the collection; the date of the Federal Register notice, the Federal Register Reference (date, volume, and leading page); OMB's control number; and the new expiration date.

Also, in accordance with the PRA 95 (44 U.S.C. 3507(d) and 5 CFR 1320.11), OSHA submitted 12 revised ICRs to OMB for approval when the Agency published the Standards Improvement Project—Phase II; Proposed Rule on October 31, 2002 (67 FR 66494). OSHA will resubmit these ICRs to OMB as revisions if changes are made based on public comments on the Standards Improvement Project—Phase II (SIPs) proposed rule. The SIPs ICRs in the following Table may either be identified by the publication date of October 31, 2002, or by Docket Number S-778-A.

Title | Date of Federal Register publication, Federal Register reference, and OSHA docket no. | OMB Control No. | Expiration date
Derricks (29 CFR 1910.181) | 06/05/2002, 67 FR 38675, Docket No. 1218-0222 (2002) | 1218-0222 | 04/30/2004
Material Hoists, Personnel Hoists, and Elevators (29 CFR 1926.552) | 06/10/2002, 67 FR 39748, Docket No. 1218-0231 (2002) | 1218-0231 | 04/30/2004
Crawler, Locomotive, and Truck Cranes (29 CFR 1926.550) | 06/10/2002, 67 FR 39747, Docket No. 1218-0232 (2002) | 1218-0232 | 05/31/2004
Overhead and Gantry Cranes (29 CFR 1910.179) | 06/18/2002, 67 FR 41502, Docket No. 1218-0224 (2002) | 1218-0224 | 05/31/2004
Hydrostatic Testing of Portable Fire Extinguishers (29 CFR 1910.157) | 06/27/2002, 67 FR 43345, Docket No. 1218-0218 (2002) | 1218-0218 | 05/31/2004
Standard on Mechanical Power Presses (29 CFR 1910.217(e)) | 06/27/2002, 67 FR 43346, Docket No. 1218-0229 (2002) | 1218-0229 | 05/31/2004
Crawler, Locomotive, and Truck Cranes (29 CFR 1910.180) | 07/01/2002, 67 FR 44241, Docket No. 1218-0221 (2002) | 1218-0221 | 05/31/2004
Rigging Equipment for Material Handling (29 CFR 1926.251) | 07/18/2002, 67 FR 47408, Docket No. 1218-0233 (2002) | 1218-0233 | 05/31/2004
Standard on the Control of Hazardous Energy Sources (Lockout/Tagout) (29 CFR 1910.147) | 12/28/2001, 66 FR 67321, Docket No. 1218-0150 (2002) | 1218-0150 | 05/31/2004
Standard on Slings (29 CFR 1910.184) | 04/05/2002, 67 FR 16452, Docket No. 1218-0223 (2002) | 1218-0223 | 08/31/2004
Manlifts (29 CFR 1910.68) | 04/18/2002, 67 FR 19317, Docket No. 1218-0226 (2002) | 1218-0226 | 08/31/2004
Forging Machines (29 CFR 1910.218) | 03/15/2002, 67 FR 11718, Docket No. 1218-0228 (2002) | 1218-0228 | 08/31/2005
Hazard Communication (29 CFR 1910.1200) | 03/18/2002, 67 FR 12050, Docket No. 1218-0072 (2002) | 1218-0072 | 09/30/2005
Telecommunications (29 CFR 1910.268) | 05/03/2002, 67 FR 22459, Docket No. 1218-0225 (2002) | 1218-0225 | 09/30/2005
Shipyard Employment (29 CFR part 1915) | 05/03/2002, 67 FR 22460, Docket No. 1218-0220 (2002) | 1218-0220 | 09/30/2005
Servicing Multi-Piece and Single Piece Rim Wheels (29 CFR 1910.177) | 05/03/2002, 67 FR 22461, Docket No. 1218-0219 (2002) | 1218-0219 | 09/30/2005
Vinyl Chloride (29 CFR 1910.1017) | 10/31/2002, 67 FR 66494, Docket No. S-778-A | 1218-0010 | 09/30/2005
Inorganic Arsenic (29 CFR 1910.1018) | 10/31/2002, 67 FR 66494, Docket No. S-778-A | 1218-0104 | 09/30/2005
Coke Oven Emissions (29 CFR 1910.1028) | 10/31/2002, 67 FR 66494, Docket No. S-778-A | 1218-0128 | 09/30/2005
Cotton Dust (29 CFR 1910.1043) | 10/31/2002, 67 FR 66494, Docket No. S-778-A | 1218-0061 | 09/30/2005
Acrylonitrile (29 CFR 1910.1045) | 10/31/2002, 67 FR 66494, Docket No. S-778-A | 1218-0126 | 09/30/2005
Longshoring and Marine Terminal Operations (29 CFR parts 1918 and 1917) | 04/23/2002, 67 FR 19776, Docket No. 1218-0196 (2002) | 1218-0196 | 10/31/2005
Blasting Operations (29 CFR 1926.900) | 06/05/2002, 67 FR 38574, Docket No. 1218-0217 (2002) | 1218-0217 | 10/31/2005
Vehicle-Mounted Elevating and Rotating Work Platforms (Aerial Lifts) (29 CFR 1910.67) | 06/06/2002, 67 FR 39050, Docket No. 1218-0230 (2002) | 1218-0230 | 10/31/2005
Trucks Used Underground to Transport Explosives (29 CFR 1926.903) | 06/18/2002, 67 FR 41503, Docket No. 1218-0227 (2002) | 1218-0227 | 10/31/2005
Permit-Required Confined Spaces (29 CFR 1910.146) | 06/28/2002, 67 FR 43686, Docket No. 1218-0203 (2002) | 1218-0203 | 10/31/2005
The 13 Carcinogens Standard (29 CFR 1910.1003, 1915.1003, and 1926.1003) | 10/31/2002, 67 FR 66494, Docket No. S-778-A | 1218-0085 | 11/30/2005
1,2-Dibromo-3-Chloropropane (DBCP) (29 CFR 1910.1044) | 10/31/2002, 67 FR 66494, Docket No. S-778-A | 1218-0101 | 11/30/2005
Hazardous Waste Operations and Emergency Response (HAZWOPER) (29 CFR 1910.146) | 08/22/2002, 67 FR 55035, Docket No. 1218-0202 (2003) | 1218-0202 | 12/31/2005
Lead in General Industry (29 CFR 1910.120) | 10/31/2002, 67 FR 66494, Docket No. S-778-A | 1218-0092 | 12/31/2005
Cadmium in General Industry (29 CFR 1910.1027) | 10/31/2002, 67 FR 66494, Docket No. S-778-A | 1218-0185 | 12/31/2005
Asbestos in Shipyards (29 CFR 1910.1001) | 10/31/2002, 67 FR 66494, Docket No. S-778-A | 1218-0195 | 12/31/2005
Lead in Construction (29 CFR 1926.62) | 10/31/2002, 67 FR 66494, Docket No. S-778-A | 1218-0189 | 12/31/2005
Asbestos in Construction (29 CFR 1926.1101) | 10/31/2002, 67 FR 66494, Docket No. S-778-A | 1218-0134 | 12/31/2005
Cadmium in Construction (29 CFR 1926.1127) | 10/31/2002, 67 FR 66494, Docket No. S-778-A | 1218-0186 | 12/31/2005
Temporary Labor Camps (29 CFR 1910.142) | 11/01/2002, 67 FR 66671, Docket No. 1218-0096 (2003) | 1218-0096 | 03/31/2006
Process Safety Management of Highly Hazardous Chemicals (PSM) (29 CFR 1910.119) | 11/29/2002, 67 FR 71210, Docket No. 1218-0200 (2003) | 1218-0200 | 03/31/2006

In accordance with 5 CFR 1320.5(b), an agency cannot conduct, sponsor, or require a response to a collection of information unless: the collection displays a valid OMB control number; and the Agency informs respondents that they are not required to respond to the collection of information unless it displays a currently valid OMB control number.

Authority And Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on May 19, 2003.
John L. Henshaw,
Assistant Secretary of Labor.

[FR Doc. 03-12999 Filed 5-22-03; 8:45 am]

BILLING CODE 4510-26-M